DEPARTMENT OF THE INTERIOR

Bureau of Land Management

[BLM_CA_FRN_MO4500170851; MO4500170801; MO4500170717]

Call for Nominations for the California Desert District Advisory Council, the Central California Resource Advisory Council, and the Northern California Resource Advisory Council

AGENCY: Bureau of Land Management, Interior.

ACTION: Notice of call for nominations.

SUMMARY: The purpose of this notice is to request public nominations for the Bureau of Land Management's (BLM) California Desert District Advisory Council (DAC), the Central California Resource Advisory Council (RAC), and the Northern California RAC to fill existing vacancies and member terms that are scheduled to expire. The Councils provide advice and recommendations to the BLM on public land use planning and management within their geographic areas.

DATES: All nominations must be received no later than August 18, 2023.

ADDRESSES: Nominations and completed applications should be sent to the BLM California District Offices listed in the SUPPLEMENTARY INFORMATION section of this notice.

FOR FURTHER INFORMATION CONTACT: Sarah K. Denos, Lead Public Affairs Specialist, BLM California State Office, 2800 Cottage Way, Suite W-1623, Sacramento, CA 95825; telephone: 916-978-4622; email: sdenos@blm.gov.

Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Federal Land Policy and Management Act (FLPMA) directs the Secretary of the Interior to involve the public in planning and issues related to management of lands administered by the BLM. Section 309 of FLPMA (43 U.S.C. 1739) directs the Secretary to establish 10- to 15-member citizen-based advisory councils that are consistent with the Federal Advisory Committee Act (FACA). As required by FACA, RAC membership must be balanced, and representative of the various interests concerned with the management of the public lands. The rules governing RACs are found at 43 CFR subpart 1784 and include the following three membership categories:

Category One—Holders of Federal grazing permits or leases within the area for which the RAC is organized; represent interests associated with transportation or rights-of-way; represent developed outdoor recreation, off-highway vehicle users, or commercial recreation activities; represent the commercial timber industry; or represent energy and mineral development.

Category Two—Represent nationally or regionally recognized environmental organizations; dispersed recreational activities; archaeological and historical interests; or nationally or regionally recognized wild horse and burro interest groups.

Category Three—Hold State, county, or local elected office; are employed by a State agency responsible for the management of natural resources, land, or water; represent Indian Tribes within or adjacent to the area for which the RAC is organized; are employed as academicians in natural resource management or the natural sciences; or represent the affected public-at-large.

Individuals may nominate themselves or others. Nominees must be residents of the State of California. The BLM will evaluate nominees based on their education, training, experience, and knowledge of the geographic area of the RAC. Nominees should demonstrate a commitment to collaborative resource decision-making.

The following must accompany all nominations:

—A completed RAC application, which can either be obtained through your local BLM office or online at: https://www.blm.gov/sites/default/files/docs/2022-05/BLM-Form-1120-19_RAC-Application.pdf.

—Letters of reference from represented interests or organizations; and

—Any other information that addresses the nominee's qualifications.

Simultaneous with this notice, BLM California will issue a press release providing additional information for submitting nominations.

Nominations and completed applications should be sent to the office listed below:

California Desert DAC

Michelle Van Der Linden, Public Affairs Officer, BLM California Desert District Office, 1201 Bird Center Drive, Palm Springs, CA 92262; phone: 951-567-1531; or email: mvanderlinden@blm.gov.

Central California RAC

Philip Oviatt, Acting Public Affairs Officer, BLM Bakersfield Field Office, 35126 McMurtrey Avenue, Bakersfield, CA 93308; phone: 661-391-6117; or email: poviatt@blm.gov.

Northern California RAC

Jeff Fontana, Public Affairs Officer, BLM Northern California District Office, 6640 Lockheed Drive, Redding, CA 96002; phone: 530-252-5332; or email: jfontana@blm.gov.

(Authority: 43 CFR 1784.4-1)

Erica St. Michel,
BLM California Deputy State Director, Communications.

[FR Doc. 2023-15223 Filed 7-18-23; 8:45 am]

BILLING CODE 4331-14-P